PEACE CORPS

Information Collection Request Under OMB Review

AGENCY: Peace Corps.

ACTION: 30-Day notice and request for comments.

SUMMARY: The Peace Corps will be submitting the Peace Corps Volunteer Application (OMB Control Number (0420-0005) to the Office of Management and Budget (OMB) for review and clearance in accordance with the Paperwork Reduction Act of 1995. Notice of the information collection was previously published in the Federal Register on July 11, 2011 [FR Doc. 2011-17273, pages 40755-40756], allowing for a 60-day public comment period. A correction notice to correct an error in the previous notice of information collection was published in the Federal Register on July 26, 2011 [FR Doc. 2011-18804, page 46525]. Peace Corps received one comment noting that Peace Corps should not use criminal history information to “engage in unlawful disparate treatment.”

The purpose of this notice is to allow an additional 30 days for public comments. Written comments and suggestions from the public and affected agencies should address one or more of the following four points: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and, (4) Minimize the burden of the collection of information on those who are to respond, including through the use of appropriate automated, electronic, mechanical, or other technological collection techniques or other forms of information technology, e.g., permitting electronic submission of responses.

DATES: Submit comments on or before November 7, 2011.

ADDRESSES: Interested persons are invited to submit comments regarding this proposal. Comments should refer to the proposal by name or OMB approval number and should be sent via e-mail to: oira_submission@omb.eop.gov or fax to: 202-395-3086. Attention: Desk Officer for Peace Corps.

FOR FURTHER INFORMATION CONTACT: Denora Miller at Peace Corps address above.

SUPPLEMENTARY INFORMATION: The information collected by the Volunteer Application is used by the Peace Corps to collect essential information from individuals, including technical and language skills, and availability for Peace Corps service. The Volunteer Application is the document of record for an individual's decision to apply for Peace Corps service.

Title: Peace Corps Volunteer Application.

OMB Control Number: 0420-0005.

Type of Review: Revision of a currently approved collection.

Affected Public: General public.

Respondents' Obligation To Reply: Voluntary.

Burden to the Public:

(a) Estimated number of respondents: 14,000.

(b) Estimated average burden: 6 hours.

(c) Frequency of response: one time.

(d) Annual reporting burden: 84,000 hours.

(e) Estimated annual cost to respondents: $0.00.

General Description of Collection: The Volunteer Application is used by Peace Corps in its assessment of an individual's qualifications to serve as a Peace Corps Volunteer including practical and cross-cultural experience, maturity, and motivation and commitment.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC on September 29, 2011.
Earl W. Yates,
Associate Director, Management.

[FR Doc. 2011-25765 Filed 10-5-11; 8:45 am]

BILLING CODE 6051-01-P